DEPARTMENT OF HOMELAND SECURITY

Coast Guard

[Docket No. USCG-2008-1190]

Towing Safety Advisory Committee; Vacancies

AGENCY: Coast Guard, DHS.

ACTION: Request for applications.

SUMMARY: The Coast Guard seeks applications for membership on the Towing Safety Advisory Committee (TSAC). TSAC advises the Coast Guard on matters relating to shallow-draft inland and coastal waterway navigation and towing safety.

DATES: Application forms should reach the Coast Guard on or before February 16, 2009.

ADDRESSES: Application forms are available for download on the Advisory Committee's Web site at http://homeport.uscg.mil/tsac; look for “ACM” (Application for Committee Membership) under “General Information.” You may also request that an application form be e-mailed or sent to you by writing to Commandant (CG-5221/TSAC); U.S. Coast Guard, Room 1210; 2100 Second Street, SW.; Washington, DC 20593-0001; by calling 202-372-1407; or by e-mail to Gerald.P.Miante@uscg.mil. Be sure to sign and include the short page that allows us to keep political affiliation on file. In addition to your “HOME ADDRESS,” please include your e-mail address in that block. Also, in addition to your phone number, please indicate your fax number in the “TELEPHONE” block. Also, a copy of the application form, as well as this notice, is available on the Internet at http://www.Regulations.gov in docket USCG-2008-1190. Send your original completed and signed application in written form to Mr. Miante at the above street address.

FOR FURTHER INFORMATION CONTACT: Mr. Gerald Miante Assistant Designated Federal Officer of TSAC; telephone 202-372-1407, fax 202-372-1926, or e-mail Gerald.P.Miante@uscg.mil.

SUPPLEMENTARY INFORMATION: The Towing Safety Advisory Committee (TSAC) is a Federal advisory committee under 5 U.S.C. App. (Pub. L. 92-463). It was established under authority of 33 U.S.C. 1231a. It advises the Secretary of Homeland Security on matters relating to shallow-draft inland and coastal waterway navigation and towing safety. This advice also assists the Coast Guard in formulating the position of the United States in advance of meetings of the International Maritime Organization.

TSAC meets at least once a year in Washington, DC, or another location selected by the Coast Guard. It may also meet for extraordinary purposes. Its subcommittees and working groups may meet to consider specific issues as required. The 16-person membership includes 7 representatives of the Barge and Towing Industry (reflecting a regional geographical balance); 1 member from the Offshore Mineral and Oil Supply Vessel Industry; and 2 members from each of the following areas: Maritime Labor; Shippers (of whom at least one shall be engaged in the shipment of oil or hazardous materials by barge); Port Districts, Authorities, or Terminal Operators; and the General Public.

The Coast Guard is currently considering applications for five positions that will become vacant on September 30, 2009: two positions from the Barge and Towing Industry; one position from the Offshore Mineral and Oil Supply Vessel Industry; one position from Shippers (who need not be engaged in the shipment of oil or hazardous materials by barge); and one position from the General Public. To be eligible, applicants should have particular expertise, knowledge, and experience relative to the position in towing operations, marine transportation, or business operations associated with shallow-draft inland and coastal waterway navigation and towing safety. Each member serves for a three-year term. A few members may serve consecutive terms. All members serve at their own expense and receive no salary or other compensation from the Federal Government, with the exception of possible reimbursement for travel expenses depending on budgetary constraints.

In support of the policy of DHS and the Coast Guard on gender and ethnic diversity, we encourage qualified women and members of minority groups to apply.

Members of TSAC selected from the General Public will be appointed and serve as non-representative members, or Special Government Employees (SGE), as defined in section 202(a) of title 18, United States Code (18 U.S.C.). As a candidate for appointment as an SGE, applicants are required to complete a Confidential Financial Disclosure Report (CFDR) on Office of Government Ethics Form 450 (OGE Form 450). A completed OGE Form 450 is not releasable to the public except under an order issued by a Federal court or as otherwise provided under the Privacy Act (5 U.S.C. 552a). Only the Designated Agency Ethics Official (DAEO) or the DAEO's designate may release a CFDR.

When filling in the “Name of Committee you are interested in” block, please indicate “TSAC” followed by the position category (e.g., `Barge and Towing,' `Offshore,' `Shippers,' or `Public') for which you are applying.

If you are interested in applying to become a member of the Committee, send a completed application to Mr. Miante as noted in ADDRESSES above. Send the application in time for it to be received on or before February 16, 2009.

A copy of the application form is available in the docket for this notice. To visit our online docket, go to http://www.regulations.gov, enter the docket number for this notice (USCG-2008-1190) in the Search box, and click “Go.”

Dated: December 11, 2008.
J.G. Lantz,
Director, Commercial Regulations and Standards.

[FR Doc. E8-29735 Filed 12-15-08; 8:45 am]

BILLING CODE 4910-15-P